DEPARTMENT OF COMMERCE

National Oceanic and Atmospheric Administration

[Docket No. 000202024-1248-02; I.D. 100401B]

RIN 0648-ZA79

Announcement of Funding Opportunity to Submit Proposals for the South Florida Ecosystem Research and Monitoring Program (SFP)

AGENCY: Center for Sponsored Coastal Ocean Research/Coastal Ocean Program (CSCOR/COP), National Ocean Service (NOS), National Oceanic and Atmospheric Administration (NOAA), Department of Commerce.

ACTION: Notice of Funding Availability for financial assistance for project grants and cooperative agreements.

SUMMARY: The purpose of this notice is to advise the public that CSCOR/COP is soliciting 1-year and 2-year proposals to support coastal ecosystem studies in South Florida including Florida Bay, Florida Keys, the Florida Keys National Marine Sanctuary (FKNMS), and adjacent coastal waters. It will provide support for research and monitoring activities for the South Florida Ecosystem Restoration Prediction and Modeling Program (SFERPM), the South Florida Living Marine Resources Program (SFLMR), and the Florida Keys National Marine Sanctuary (FKNMS). The overall goal of this Announcement is to fund high priority research and monitoring needed to predict the impacts of Everglades restoration on the South Florida coastal ecosystem. Funding is contingent upon the availability of Federal appropriations. It is anticipated that projects funded under this announcement will have a March 1, 2002 start date.

DATES: The deadline for receipt of proposals at the COP office is 3 p.m., e.s.t. November 29, 2001. (Note that late-arriving applications provided to a delivery service on or before November 28, 2001, with delivery guaranteed before 3 p.m., e.s.t. on November 29, 2001, will be accepted for review if the applicant can document that the application was provided to the delivery service with delivery to the address listed below guaranteed prior to the specified closing date and time, and, in any event, the proposals are received in the COP office by 3 p.m., e.s.t., no later than 2 business days following the closing date.)

ADDRESSES: Submit the original and 19 copies of your proposal to Center for Sponsored Coastal Ocean Research/Coastal Ocean Program (N/SCI 2), SSMC#4, 8th Floor, Station 8243, 1305 East-West Highway, Silver Spring, MD 20910. NOAA and Standard Form Applications with instructions are accessible on the following COP Internet Site: http://www.cop.noaa.gov under the COP Grants Support Section, Part D, Application Forms for Initial Proposal Submission. Forms may be viewed and, in most cases, filled in by computer. All forms must be printed, completed, and mailed to CSCOR/COP with original signatures. Blue ink for original signatures is recommended but not required. If you are unable to access this information, you may call CSCOR/COP at 301-713-3338 to leave a mailing request.

FOR FURTHER INFORMATION CONTACT: Technical Information. Larry Pugh, SFP 2002 Program Manager, CSCOR/COP, 301-713-3338/ext 160, Internet: larry.pugh@noaa.gov

Business Management Information. Leslie McDonald, COP Grants Administrator, 301-713-3338/ext 155, Internet: Leslie.McDonald@noaa.gov

SUPPLEMENTARY INFORMATION:

Electronic Access

Background information on the South Florida Ecosystem Restoration Prediction and Modeling program, including descriptions of presently funded projects, results, data management, and programmatic infrastructure (including small boat access and policy) can be found at http://www.aoml.noaa.gov/ocd/sferpm.

Background information on the Florida Bay and Adjacent Marine Systems Interagency Science Program, including the Program Management Committee (PMC), Scientific Oversight Panel (SOP), copies of the annual science conference abstracts, workshop reports, and present Strategic Science Plan, can be found at http://www.aoml.noaa.gov/flbay.

Background information regarding Florida Keys National Marine Sanctuary can be found at http://www.fknms.nos.noaa.gov.

Background information regarding South Florida Ecosystem Restoration (SFER) in general can be found at http://www.sfrestore.org, but the Comprehensive Everglades Restoration Plan (CERP) can be found at http://www.evergladesplan.org.

Background

Program Description

For complete program description and other requirements criteria for the Coastal Ocean Program, see COP’s General Grant Administration Terms and Conditions annual notification in the Federal Register (65 FR 62706, October 19, 2000) and at the COP home page.

This program is one of the Federal and state programs contributing to the Florida Bay and Adjacent Marine Systems Interagency Science Program, which is designed to understand the effects of South Florida ecosystem restoration.

The activities conducted to restore the South Florida ecosystem occur predominantly upstream of Florida Bay, and restoration impacts may not be direct or immediate. Through funding of the research priorities identified here, COP will fund an integrated suite of activities to better understand the coastal and marine ecosystem adjacent to the Everglades, comprising Florida Bay and the FKNMS. The GOAL of the complete effort is to develop a capability to predict the impacts of proposed Everglades Restoration activities on the coastal system from the mangroves to the coral reefs.

Research Areas

To address the goal of developing a capability to predict changes in coastal ecosystems resulting from Restoration activities, this announcement has five specific areas of interest: nutrient inputs and dynamics, water quality, circulation and physical oceanography, fisheries and protected resources, and Florida Keys habitat characterization and research.

(1) Nutrient Inputs and Dynamics. Proposals are solicited to quantitatively address the extent, relative contribution, and distribution of groundwater-derived nutrients into Florida Bay and the FKNMS at present and under various upstream water management alternatives. Proposals are also solicited on nutrient cycles within the water column and between the water column and benthos. A priority topic for nutrient proposals will be biogeochemical processes (including the microbial loop) governing the bio-availability of organic nitrogen.

(2) Water Quality. The health of the coral reef community of the FKNMS depends upon the quality (temperature, salinity, nutrients, inorganic particulate load and chemical contaminants) of the waters that flow over them. With Everglades restoration, water quality throughout South Florida coastal waters will be changed. Proposals are now solicited that address the chemical, biological, and optical characteristics of Bay waters that exit Keys passes and potentially reach the reef tract and protected areas in the FKNMS. Priority will be given to projects coordinated with and complementary to physical oceanographic field studies and to projects addressing timely dissemination of information to the Interagency SFER science community and the public.

(3) Circulation and Physical Oceanography. In the area of Circulation and Physical Oceanography, emphasis is placed on predicting the impacts of different restoration scenarios both upstream and in the Keys in the context of integrated natural system variability. Proposals are solicited to monitor the oceanographic parameters needed in order to verify and initialize circulation models; quantify flows intermittently exiting through Keys passages and potentially reaching the reef tract; determine basin residence and turnover times, circulation, and flow within the Bay and upstream effects upon the Dry Tortugas Ecological Reserve; and improve evaporation and sediment transport estimates.

(4) Fisheries and Protected Resources. Ecosystem changes caused by SFER activities have ultimate impacts on the sustainability of higher trophic level (HTL) species, including fishery and protected resources, which have widely recognized importance. Proposals are solicited to build models and provide information to increase predictive capability in linking higher trophic levels to ER activities. Proposals should be directed at the following research priorities: (1) determining human (e.g., water management, fishing) and natural influences on biological processes affecting growth, survival, and recruitment of HTL species; (2) determining the major factors that influence distribution and abundance patterns and community and trophic structure; (3) identifying major pathways, mechanisms, and influencing factors in the transport of pre-settlement stages of offshore-spawning species onto nursery grounds; or (4) defining and quantifying major ecological processes that are substantially influenced by HTL species distributions or community and trophic structure.

(5) Florida Keys Habitat Characterization and Research. Coral reefs, seagrass beds, and hardbottom communities comprise the submerged, biogenic habitats of the FKNMS that support diverse species assemblages. Monitoring the coral reefs, seagrass beds, and hardbottom communities is necessary to provide a basis for detecting potential changes associated with Everglades restoration and fully protected zones.

Over the past several years, there has been a decline in the abundance of live coral in the FKNMS and shifting patterns of relative abundance of seagrass species in Florida Bay. Recently, management issues concerning hardbottom communities could not be addressed because of a lack of ecological research. Proposals are now solicited to investigate (a) causes of coral decline with emphasis on cause and effect; (b) possible associations between water quality and seagrass distribution; and (c) the functional significance of hardbottom communities in the FKNMS ecosystem.

The fully protected zones of the FKNMS, including the Tortugas Ecological Reserve, were created to assist in the protection of biological diversity and to disperse resource utilization in order to reduce user conflicts and to lessen the concentrated impact to marine organisms on heavily used reefs. Proposals are solicited to monitor commercially important species (e.g., spiny lobster) and key depleted fishery species (e.g., queen conch) and to create ecosystem models of reef fish communities to predict the effects of zoning on species diversity, abundance, and trophic structure.

Part I: Schedule and Proposal Submission

This document requests full proposals only. The provisions for proposal preparation provided here are mandatory. Proposals received after the published deadline or proposals that deviate from the prescribed format will be returned to the sender without further consideration. Information regarding this announcement, additional background information, and required Federal forms are available on the COP home page.

Full Proposals

Applications submitted in response to this announcement require an original proposal and 19 proposal copies at time of submission. This includes color or high-resolution graphics, unusually sized materials, or otherwise unusual materials submitted as part of the proposal. For color graphics, submit either color originals or color copies. The stated requirements for the number of proposal copies provide for a timely review process. Facsimile transmissions and electronic mail submission of full proposals will not be accepted.

Required Elements

All recipients must follow the instructions in the preparation of the CSCOR/COP application forms included in this document in Part II: Further Supplementary Information, (10) Application forms and kit. Each proposal must also include the following eight elements:

(1) Signed Summary title page. The title page should be signed by the Principal Investigator (PI). The Summary Title page identifies the project's title starting with the acronym SFP 2002 (South Florida Project), a short title (less than 50 characters); and the PI’s name and affiliation, complete address, phone, FAX and E-mail information. The requested budget for each fiscal year should be included on the Summary Title page. Multi-institution proposals must include signed Summary Title pages from each institution.

(2) One-page abstract/project summary. The Project Summary (Abstract) Form, which is to be submitted at time of application, shall include an introduction of the problem, rationale, scientific objectives and/or hypotheses to be tested, and a brief summary of work to be completed. The prescribed COP format for the Project Summary Form can be found on the COP Internet site under the COP Grants Support section, Part D.

The summary should appear on a separate page, headed with the proposal title, institution(s), investigator(s), total proposed cost and budget period. It should be written in the third person. The summary is used to help compare proposals quickly and allows the respondents to summarize these key points in their own words.

(3) Statement of work/project description. The proposed project must be completely described, including identification of the problem, scientific objectives, proposed methodology, relevance to the SFP 2002 program goal. The project description section (including relevant results from prior support) should not exceed 15 pages. Page limits are inclusive of figures and other visual materials, but exclusive of references and milestone chart.

This section should clearly identify project management with a description of the functions of each PI within a team. It should provide a full scientific justification for the research, do not simply reiterate justifications presented in this document. It should also include:

(a) The objective for the period of proposed work and its expected significance;

(b) The relation to the present state of knowledge in the field and relation to previous work and work in progress by the proposing principal investigator(s);

(c) A discussion of how the proposed project lends value to the program goal;

(d) Potential coordination with other investigators; and,

(e) References cited.

Reference information is required. Each reference must include the name(s) of all authors in the same sequence in which they appear in the publications, the article title, volume number, page numbers and year of publications. While there is no established page limitation, this section should include bibliographic citations only and should not be used to provide parenthetical information outside the 15-page project description.

(4) Milestone chart. Provide time lines of major tasks covering the 12- to 24-month duration of the proposed project.

(5) Budget and Application Forms. Both NOAA and COP-specific application forms may be obtained at the COP Grants website. Forms may be viewed and, in most cases, filled in by computer. All forms must be printed, completed, and mailed to CSCOR/COP; original signatures in blue ink are encouraged. If applicants are unable to access this information, they may contact the CSCOR/COP grants administrator previously listed in the section FOR FURTHER INFORMATION CONTACT.

At time of proposal submission, all applicants must submit the Standard Form, SF-424 (Rev 7-97) Application for Federal Assistance to indicate the total amount of funding proposed for the whole project period. Applicants must also submit a COP Summary Proposal Budget Form for each fiscal year increment. Multi-institution proposals must include a Summary Proposal Budget Form for each institution. Use of this budget form will provide for a detailed annual budget and for the level of detail required by the COP program staff to evaluate the effort to be invested by investigators and staff on a specific project. The COP budget form is compatible with forms in use by other agencies that participate in joint projects with COP and can be found on the COP home page under COP Grants Support, Part D. All applications must include a budget narrative and a justification to support all proposed budget categories. The SF-424A, Budget Information (Non-Construction) Form, will be requested only from those applicants subsequently recommended for award.

(6) Biographical sketch. With each proposal, the following must be included: abbreviated curriculum vitae, two pages per investigator; a list of up to five publications most closely related to the proposed project and up to five other significant publications; and list of all persons (including their organizational affiliation), in alphabetical order, who have collaborated on a project, book, article, or paper within the last 48 months. If there are no collaborators, this should be so indicated. Students, post-doctoral associates, and graduate and postgraduate advisors of the PI should also be disclosed. This information is used to help identify potential conflicts of interest or bias in the selection of reviewers.

(7) Proposal format and assembly. The original proposal should be clamped in the upper left-hand corner, but left unbound. The 19 additional copies can be stapled in the upper left-hand corner or bound on the left edge. The page margin must be one inch (2.5 cm) margins at the top, bottom, left and right, and the typeface standard 12-points size must be clear and easily legible. Proposals should be single spaced.

Part II: FURTHER SUPPLEMENTARY INFORMATION

(1) Program authorities. For a list of all program authorities for the Coastal Ocean Program, see the General Grant Administration Terms and Conditions of the Coastal Ocean Program published in the Federal Register (65 FR 62706, October 19, 2000) and at the COP home page. Specific Authority cited for this Announcement is 33 U.S.C. 1442.

(2) Catalog of Federal Domestic Assistance (CFDA) Number. The CFDA number for the Coastal Ocean Program is 11.478.

(3) Program description. For complete COP program descriptions, see the General Grant Administration Terms and Conditions of the Coastal Ocean Program published in the Federal Register (65 FR 62706, October 19, 2000).

(4) Funding availability. Funding is contingent upon receipt of fiscal years 2002-2003 Federal appropriations. Approximately $2.8 million per year for FY2002 and FY2003 will be available for SFP activities under this announcement. Up to $2.1 million of these funds will be provided by COP and up to $0.6 million will be provided by NOAA/NMFS/SEFSC.

If an application is selected for funding, NOAA has no obligation to provide any additional prospective funding in connection with that award in subsequent years. Renewal of an award to increase funding or to extend the period of performance is based on satisfactory performance and is at the total discretion of the funding agency.

Publication of this notice does not obligate any agency to any specific award or to obligate any part of the entire amount of funds available. Recipients and subrecipients are subject to all Federal laws and agency policies, regulations and procedures applicable to Federal financial assistance awards.

(5) Matching requirements. None. (6) Type of funding instrument. Project Grants for non-Federal applicants, interagency transfer agreements, or any other appropriate mechanisms other than project grants or cooperative agreements for Federal applicants.

(7) Eligibility criteria. For complete eligibility criteria for the COP, see COP’s General Grant Administration Terms and Conditions annual document in the Federal Register (65 FR 62706, October 19, 2000) and the COP home page. Eligible applicants are institutions of higher education, not-for-profit institutions, international organizations, state, local and Indian tribal governments and Federal agencies. COP will accept proposals that include foreign researchers as collaborators with a researcher who is affiliated with a U.S. academic institution, Federal agency, or any other non-profit organization.

Applications from non-Federal and Federal applicants will be competed against each other. Proposals selected for funding from non-Federal applicants will be funded through a project grant or cooperative agreement under the terms of this notice. Proposals selected for funding from NOAA employees shall be effected by an intra-agency fund transfer. Proposals selected for funding from a non-NOAA Federal agency will be funded through an inter-agency transfer.

PLEASE NOTE: Before non-NOAA Federal applicants may be funded, they must demonstrate that they have legal authority to receive funds from another Federal agency in excess of their appropriation. Because this announcement is not proposing to procure goods or services from applicants, the Economy Act (31 USC 1535) is not an appropriate legal basis.

(8) Award period. Full Proposals can cover a project period from 1 to 2 years, i.e. from date of award up to 24 consecutive months. Multi-year project period funding will be funded incrementally on an annual basis. For NOAA awards, each annual award shall require an Implementation Plan and statement of work that can be easily divided into annual increments of meaningful work representing solid accomplishments (if prospective funding is not made available, or is discontinued).

(9) Indirect costs. If indirect costs are proposed, the total dollar amount of the indirect costs proposed in an application must not exceed the indirect cost rate negotiated and approved by a cognizant Federal agency prior to the proposed effective date of the award.

(10) Application forms and kit. For complete information on application forms for the COP, see COP’s General Grant Administration Terms and Conditions annual Document in the Federal Register (65 FR 62706, October 19, 2000); at the COP home page; and the information given under Required Elements, paragraph (5) Budget.

(11) Project funding priorities. For description of project funding priorities, see COP’s General Grant Administration Terms and Conditions annual notification in the Federal Register (65 FR 62706, October 19, 2000) and at the COP home page.

(l2) Evaluation criteria. For complete information on evaluation criteria, see COP’s General Grant Administration Terms and Conditions annual Document in the Federal Register (65 FR 62706, October 19, 2000) and at the COP home page.

(13) Selection procedures. For complete information on selection procedures, see COP’s General Grant Administration Terms and Conditions annual Document in the Federal Register (65 FR 62706, October 19, 2000) and at the COP home page. All proposals received under this specific Document will be evaluated and ranked individually in accordance with the assigned weights of the above evaluation criteria by independent peer mail review and panel review. No consensus advice will be given by the independent peer mail review or the review panel.

(14) Other requirements. As participants in the Interagency Science Program, funded principal investigators will be expected to:

(a) Participate in meetings for planning and coordination of the Program. This includes attending and contributing to the annual Interagency Florida Bay Science Program Conference, Research Team Meetings, and other relevant technical workshops.

(b) Promptly quality control their data and make them readily available through the Coordinating Office in accordance with the Data Policy, mentioned earlier in this document.

(c) Assist the Coordinating Office in the synthesis and interpretation of research results and the development of products of value to restoration and resource.

(d) Work with the Coordinating Office regarding small boat requirements (if any) to schedule access to the dedicated research vessel (description available on the SFERPM website earlier cited). If your project will have small boat needs that you cannot furnish, please provide description and schedule requirements in your proposal.

(e) If your project uses or relies on data/information from the NOAA CMAN SEAKEYS meteorological/oceanographic monitoring network, please provide description and requirements in your proposal. Similarly, if your project uses/relies on data/information from research categories in this Announcement, other than the one you are proposing to study, please describe.

For a complete description of other requirements, see COP’s General Grant Administration Terms and Conditions annual Document in the Federal Register (65 FR 62706, October 19, 2000) and at the COP home page. NOAA has specific requirements that environmental data be submitted to the National Oceanographic Data Center.

(f) The Department of Commerce Pre-Award Notification Requirements for Grants and Cooperative Agreements contained in the Federal Register (66 FR 49917, October 1, 2001) are applicable to this solicitation.

(15) Intergovernmental review. Applications under this program are not subject to Executive Order 12372, “Intergovernmental Review of Federal Programs.”

(16) This notification involves collection-of-information requirements subject to the Paperwork Reduction Act. The use of Standard Forms 424, 424A, 424B, and SF-LLL has been approved by the Office of Management and Budget (OMB) under control numbers 0348-0043, 0348-0044, 0348-0040 and 0348-0046.

The following requirements have been approved by OMB under control number 0648-0384: a Summary Proposal Budget Form (30 minutes per response), a Project Summary Form (30 minutes per response), a standardized format for the Annual Performance Report (5 hours per response), a standardized format for the Final Report (10 hours per response) and the submission of up to 20 copies of proposals (10 minutes per response). The response estimates include the time for reviewing instructions, searching existing data sources, gathering and maintaining the data needed, and completing and reviewing the collection of information. Send comments regarding this burden estimate or any other aspect of this collection of information, including suggestions for reducing this burden, to Leslie.McDonald@noaa.gov. Copies of these forms and formats can be found on the COP home page under Grants Support sections, Parts D and F.

Notwithstanding any other provision of law, no person is required to respond to, nor shall any person be subject to a penalty for failure to comply with a collection of information subject to the requirements of the Paperwork Reduction Act, unless that collection displays a currently valid OMB control number.

Dated: October 16, 2001.
Jamison S. Hawkins,
Deputy Assistant Administrator for Ocean Services and Coastal Zone Management.

[FR Doc. 01-26553 Filed 10-19-01; 8:45 am]

BILLING CODE 3510-JS-S